DEPARTMENT OF HEALTH AND HUMAN SERVICES

Centers for Disease Control and Prevention

Expansion of Routine HIV Counseling & Testing and the Provision of Basic Care in Clinics and Hospitals in the Republic of Uganda

Announcement Type: New.

Funding Opportunity Number: 04229.

Catalog of Federal Domestic Assistance Number: 93.941.

Key Dates:

Application Deadline: July 12, 2004.

I. Funding Opportunity Description

Authority: This program is authorized under sections 301 and 307 of the Public Health Service Act, [42 U.S.C. Sections 241 and 242l], and section 104 of the Foreign Assistance Act of 1961, 22 U.S.C. 215lb, as amended.

Purpose: The Centers for Disease Control and Prevention (CDC) announces the availability of fiscal year (FY) 2004 funds for a cooperative agreement program for the “Expansion of Routine HIV Counseling & Testing and the provision of Basic Care Provision in Clinics and Hospitals in the Republic of Uganda”. This program addresses the “Healthy People 2010” focus area of HIV.

The overall aim of this program is to develop models of routine HIV counseling and testing in clinics and hospitals in district settings that would either directly provide, or refer those testing positive to, sources of basic preventative and palliative care. The provision of antiretroviral (ARV) therapy is not part of this program.

The United States Government seeks to reduce the impact of HIV/AIDS in specific countries within sub-Saharan Africa, Asia and the Americas. The President's Emergency Plan for AIDS Relief (PEPFAR) encompasses HIV/AIDS activities in more than 75 countries and focuses on 14 countries including Uganda to develop comprehensive and integrated prevention, care and ARV treatment programs. CDC has initiated its Global AIDS Program (GAP) to strengthen capacity and expand activities in the areas of: (1) HIV primary prevention; (2) HIV care, support and treatment; and (3) capacity and infrastructure development, including surveillance. Targeted countries represent those with the most severe epidemics and the highest number of new infections. They also represent countries where the potential impact is greatest and where the United States government agencies are already active. Uganda is one of those countries.

CDC's mission in Uganda is to work with Ugandan and international partners to develop, evaluate, and support effective implementation of interventions to prevent HIV and related illnesses and improve care and support of persons with HIV/AIDS.

Voluntary counseling and testing (VCT) services are only available at 11 percent of health facilities (Uganda Health Facilities Survey 2002). To date there has been no routine counseling and testing (RCT) within clinical settings. Where HIV testing services are available in clinical settings only selected patients (28 percent in a recent study) are referred for testing, and counseling support is generally poor or absent. In the same study, 55 percent of those not tested said they would have wanted to be tested. The most recent Demographic and Health Survey in Uganda indicated that 70 percent of people would like to receive HIV testing, but only ten percent reported that they had been tested. An estimated 20-70 percent of patients in hospital wards, TB clinics, and sexually transmitted infections (STI) clinics are HIV infected, but HIV testing is not currently part of routine care.

The purpose of this program is to introduce RCT at hospitals or other clinically oriented institutions or programs providing services to a substantial portion of their surrounding population. The initial year would involve hospitals in two different districts and would result in roll-out in successive years to other districts. This program would focus its support to expand activities in future years to clinics and hospitals in other areas under-served by other VCT or RCT providers. The program would also support the capacity of the target hospitals and other local care providers to offer basic preventive care and palliative care by supporting appropriate training, networking, information exchange and planning, and when necessary, purchase of commodities, but without taking on principal responsibility for financial support of care provision.

It is currently proposed that the basic preventive care package includes: (1) Cotrimoxazole prophylaxis; (2) active TB screening and treatment or INH prophylaxis; (3) a safe water vessel with chlorine solution; (4) an insecticide-treated bed-net (ITN); and (5) prevention with positives counseling (PWPC). The palliative care package would include pain management and psychosocial support in addition to the basic care package elements.

The measurable outcomes of the program will be in alignment with goals of the GAP to reduce HIV transmission and improve care of persons living with HIV. They also will contribute to the PEPFAR goals, which are: (1) Within five years treat more than two million HIV-infected persons with effective combination anti-retroviral therapy; (2) care for seven million HIV-infected and affected persons including those orphaned by HIV/AIDS; and (3) prevent ten million new infections. Specific measurable outcomes of this program will be the number of clients receiving RCT and the percentage coverage of patients by RCT.

Activities: Awardee activities for this program are as follows:

a. Establish a project office(s) as required by the activities.

b. Identify project staffing needs; hire and train staff.

c. Identify furnishings, fittings, equipment, computers and other fixed assets procurement needs of the project and implementing partners and acquire from normal sources.

d. Establish suitable administrative and financial management structures.

e. Work with the Ministry of Health (MOH) and other stakeholders, as necessary, to develop RCT and care operational guidelines for hospitals and clinical settings.

f. Support the partner hospitals and clinics to implement RCT in all hospital units including the outpatient departments. If appropriate, develop a strong referral system for those testing positive to organizations providing effective care.

g. Train personnel from other clinical facilities in the same and neighboring under-served districts in conducting RCT.

h. Carry out work site follow up to training within the target districts.

i. Support the clinical facilities to develop a simple data collection system, integrated within the general Health Management Information System (HMIS) that reflects useful information specifically related to RCT activities including PEPFAR indicators.

j. Ensure that the commodities supply & management system is operational in respect to test kits, cotrimoxazole, TB diagnostic materials and drugs, and medicines for pain management, using existing hospital and public sector systems as far as possible, and project emergency re-supply only as necessary.

k. Publish reports, guidelines and training manuals relating to RCT testing in district clinical settings.

l. Plan to recruit additional RCT sites for roll out of the project in years two to five.

m. Ensure that the above activities are undertaken in manner consistent with the national HIV/AIDS strategic framework.

n. Monitor and evaluate project activities. In collaboration with the MOH and other stakeholders revise RCT guidelines based on evaluation findings as necessary.

In a cooperative agreement, CDC staff is substantially involved in the program activities, above and beyond routine grant monitoring.

CDC activities for this program are as follows:

a. Provide technical assistance, as needed, in the development of training curricula, materials, and diagnostic therapeutic guidelines.

b. Collaborate with the recipient, as needed, in the development of an information technology system for medical record keeping and information access and in the analysis of data derived from those records.

c. Assist, as needed, in monitoring and evaluation of the program and in development of further appropriate initiatives.

d. Provide input, as needed, into the criteria for selection of staff and training candidates, and the hospitals and clinics to be included in the program.

e. Provide input into the overall program strategy.

f. Collaborate, as needed, with the awardee in the selection of key personnel to be involved in the activities to be performed under this agreement, including approval of the overall manager of the program.

Technical assistance and training may be provided directly by CDC staff or through organizations that have successfully competed for funding under a separate CDC contract.

II. Award Information

Type of Award: Cooperative Agreement.

CDC involvement in this program is listed in the Activities section above.

Fiscal Year Funds: 2004.

Approximate Total Funding: $2,330,000. (This amount is for the entire five-year project period.).

Approximate Number of Awards: one.

Approximate Average Award: $466,000. (This amount is for the first 12-month budget period, and includes both direct and indirect costs.)

Floor of Award Range: none.

Ceiling of Award Range: $466,000.

Anticipated Award Date: September 1, 2004.

Budget Period Length: 12 months.

Project Period Length: 5 years.

Throughout the project period, CDC's commitment to continuation of awards will be conditioned on the availability of funds, evidence of satisfactory progress by the recipient (as documented in required reports), and the determination that continued funding is in the best interest of the Federal government.

III. Eligibility Information

III.1. Eligible Applicants

Applications may be submitted by public nonprofit organizations, private nonprofit organizations, universities, colleges, research institutions, hospitals, and faith-based organizations that meet the following criteria:

1. Have at least three years of documented HIV/AIDS-related clinical experience and/or HIV/AIDS counseling and testing experience in Uganda.

2. Have agreements with the authorities representing the first two proposed hospital sites for operations of the program during the first year.

3. Applicant organization must be based in Uganda.

III.2. Cost Sharing or Matching

Matching funds are not required for this program.

III.3. Other

If you request a funding amount greater than the ceiling of the award range, your application will be considered non-responsive and will not be entered into the review process. You will be notified that your application did not meet the submission requirements.

If your application is incomplete or non-responsive to the requirements listed below, it will not be entered into the review process. You will be notified that your application did not meet the submission requirements.

Note: Title 2 of the United States Code Section 1611 states that an organization described in Section 501(c)(4) of the Internal Revenue Code that engages in lobbying activities is not eligible to receive Federal funds constituting an award, grant or loan.

IV. Application and Submission Information

IV.1. Address to Request Application Package

To apply for this funding opportunity use application form PHS 5161. Application forms and instructions are available on the CDC web site, at the following Internet address: www.cdc.gov/od/pgo/forminfo.htm.

If you do not have access to the Internet, or if you have difficulty accessing the forms on-line, you may contact the CDC Procurement and Grants Office Technical Information Management Section (PGO-TIM) staff at: (770) 488-2700. Application forms can be mailed to you.

IV.2. Content and Form of Submission

Application: You must submit a project narrative with your application forms. Your narrative must be submitted in the following format:

• Maximum number of pages: 25. If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

• Must be submitted in English.

Your narrative should address activities to be conducted over the entire project period, and should consist of, as a minimum, in the order listed: a plan, objectives, activities, methods, an evaluation framework, a budget and budget justification highlighting any supplies mentioned in the Program Requirements and any proposed capital expenditure.

Additional information is optional and may be included in the application appendices. The appendices will not be counted toward the narrative page limit. Additional information could include but is not limited to: organizational charts, curriculum vitae, letters of support, etc.

The budget justification will not be counted in the page limit stated above.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “Administrative and National Policy Requirements.”

IV.3. Submission Dates and Times

Application Deadline Date: July 12, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: (770) 488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Antiretroviral Drugs—The purchase of ARVs, reagents, and laboratory equipment for antiretroviral treatment projects (outside of PMTCT) require pre-approval from HHS/CDC officials.

• Needle Exchange—No funds appropriated under this Act shall be used to carry out any program of distributing sterile needles or syringes for the hypodermic injection of any illegal drug.

• Funds may be spent for reasonable program purposes, including personnel, training, travel, supplies and services. Equipment may be purchased and renovations completed if deemed necessary to accomplish program objectives; however, prior approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations, with the following exception: With the exception of the American University, Beirut, and the World Health Organization (WHO), Indirect Costs will not be paid (either directly or through sub-award) to organizations located outside the territorial limits of the United States or to international organization regardless of their location.

• The applicant may contract with other organizations under this program; however the applicant must perform a substantial portion of the activities (including program management and operations, and delivery of prevention and care services for which funds are required).

• You must obtain an annual audit of these CDC funds (program-specific audit) by a U.S.-based audit firm with international branches and current licensure/authority in-country, and in accordance with International Accounting Standards or equivalent standard(s) approved in writing by CDC.

• A fiscal Recipient Capability Assessment may be required, prior to or post award, in order to review the applicant's business management and fiscal capabilities regarding the handling of U.S. Federal funds.

• Prostitution and Related Activities.

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any foreign recipient must have a policy explicitly opposing, in its activities outside the United States, prostitution and sex trafficking, except that this requirement shall not apply to the Global Fund to Fight AIDS, Tuberculosis and Malaria, the World Health Organization, the International AIDS Vaccine Initiative or to any United Nations agency, if such entity is a recipient of U.S. government funds in connection with this document.

The following definitions apply for purposes of this clause:

• Sex trafficking means the recruitment, harboring, transportation, provision, or obtaining of a person for the purpose of a commercial sex act. 22 U.S.C. 7102(9).

• A foreign recipient includes an entity that is not organized under the laws of any State of the United States, the District of Columbia or the Commonwealth of Puerto Rico. Restoration of the Mexico City Policy, 66 FR 17303, 17303 (March 28, 2001).

All recipients must insert provisions implementing the applicable parts of this section, “Prostitution and Related Activities,” in all subagreements under this award. These provisions must be express terms and conditions of the subagreement, acknowledge that each certification to compliance with this section, “Prostitution and Related Activities,” are a prerequisite to receipt of U.S. government funds in connection with this document, and must acknowledge that any violation of the provisions shall be grounds for unilateral termination of the agreement prior to the end of its term. In addition, all recipients must ensure, through contract, certification, audit, and/or any other necessary means, all the applicable requirements in this section, “Prostitution and Related Activities,” are met by any other entities receiving U.S. government funds from the recipient in connection with this document, including without limitation, the recipients' sub-grantees, sub-contractors, parents, subsidiaries, and affiliates. Recipients must agree that HHS may, at any reasonable time, inspect the documents and materials maintained or prepared by the recipient in the usual course of its operations that relate to the organization's compliance with this section, “Prostitution and Related Activities.”

All primary grantees receiving U.S. Government funds in connection with this document must certify compliance prior to actual receipt of such funds in a written statement referencing this document (e.g., “[Recipient's name] certifies compliance with the section, ‘Prostitution and Related Activities.’ “) addressed to the agency's grants officer. Such certifications are prerequisites to the payment of any U.S. Government funds in connection with this document.

Recipients' compliance with this section, “Prostitution and Related Activities,” is an express term and condition of receiving U.S. government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

Funds may be used for:

• RCT at the facilities targeted by the project including required training, test kit purchase, simple laboratory refurbishment, additional staffing, and other related expenses.

• Strengthening hospital and care provider ability to provide basic preventive care and palliative care for people living with HIV/AIDS (PHAs) through training, improved referral, strengthening delivery of key elements of preventive and palliative care packages and purchasing of commodities if necessary.

• Evaluation and management of the activities.

Funding in the first year will be limited to activities at two facilities in different districts.

Awards will not allow reimbursement of pre-award costs.

Guidance for completing your budget can be found on the United States government Web site at the following address: http://www.cdc.gov/od/pgo/funding/budgetguide.htm.

IV.6. Other Submission Requirements

Application Submission Address: Submit the original and two hard copies of your application by mail or express delivery service to: Technical Information Management Section—PA 04229, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Understanding the issues, principles and systems requirements involved in delivering RCT and basic care for PHAs in a district clinical context in Uganda (25 points).

Does the applicant demonstrate an understanding of the ethical, clinical, social, managerial and other practical issues involved in delivering RCT and basic care effectively, sensitively and sustainably in the setting of Ugandan district health services and faith-based care providers?

2. Ability to carry out the proposal (25 points).

Does the applicant demonstrate the capability to achieve the purpose of this proposal?

3. Work Plan (20 points).

Does the applicant describe activities which are realistic, achievable, time-framed and appropriate to complete this program?

4. Personnel (15 points).

Are the personnel (including their qualifications, training, availability, and experience) adequate to carry out the proposed activities?

5. Administrative and Accounting Plan (15 points).

Is there a plan to account for, prepare reports, monitoring and audit expenditures under this agreement, manage the resources of the program and produce, collect and analyze performance data?

6. Budget (not scored).

Is the budget for conducting the activity itemized and well-justified and consistent with stated activities and planned program activities?

V.2. Review and Selection Process

Applications will be reviewed for completeness by the Procurement and Grants Office (PGO) staff and for responsiveness by NCHSTP/GAP. Incomplete applications and applications that are non-responsive to the eligibility criteria will not advance through the review process. Applicants will be notified that their application did not meet submission requirements.

An objective review panel will evaluate complete and responsive applications according to the criteria listed in the “V.1. Criteria” section above.

V.3. Anticipated Announcement and Award Dates

September 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-10 Smoke-Free Workplace Requirements

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of effectiveness.

2. Financial status report, no more than 90 days after the end of the budget period.

3. Final financial and performance reports, no more than 90 days after the end of the project period.

4. Semi-annual progress reports, 30 days after the end of the budget period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: (770) 488-2700.

For program technical assistance, contact: Jonathan Mermin, MD, MPH, Global AIDS Program, Uganda Country Team, National Center for HIV, STD and TB Prevention, Centers for Disease Control and Prevention P.O. Box 49, Entebbe, Uganda, Telephone: +256-41320776, e-mail: jhm@cdc.gov.

For financial, grants management, or budget assistance, contact: Shirley Wynn, Contract Specialist, Procurement and Grants Office, Centers for Disease Control and Prevention, 2920 Brandywine Road, Atlanta, GA 30341-4146, Telephone: (770) 488-1515, e-mail address: zbx6@cdc.gov.

Dated: June 4, 2004.
William P. Nichols,
Acting Director, Procurement and Grants Office, Centers for Disease Control and Prevention.

[FR Doc. 04-13141 Filed 6-9-04; 8:45 am]

BILLING CODE 4163-18-P